ENVIRONMENTAL PROTECTION AGENCY

[FRL-9146-6]

Clean Water Act Section 303(d): Availability of Los Angeles Area Lakes Total Maximum Daily Loads (TMDLs)

AGENCY: Environmental Protection Agency (EPA).

ACTION: Notice of availability.

SUMMARY: This action announces the availability of EPA proposed total maximum daily loads (TMDLs) for Echo Park Lake, Lincoln Park Lake, Peck Road Park Lake, Lake Calabasas, Lake Sherwood, Puddingstone Reservoir, Legg Lakes, Santa Fe Dam Park and El Dorado Park Lakes to address nutrient, mercury, chlordane, dieldrin, DDT, PCB, and trash impairments pursuant to Clean Water Act Section 303(d)(1), and requests public comment. Section 303(d)(1) requires that states submit water quality planning documents called total maximum daily loads for impaired waters for which existing technology-based pollution controls are not stringent enough to attain or maintain state water quality standards. EPA must approve or disapprove the State's submitted TMDLs.

EPA is providing the public the opportunity to review the proposed TMDLs. EPA is establishing these TMDLs in lieu of California because of deadlines associated with the consent decree described under Supplementary Information. EPA will prepare a responsiveness summary that demonstrates how public comments were considered in the final TMDL decisions. The responsiveness document will be available along with the final TMDLs at EPA's Region IX Web site below.

DATES: Comments must be submitted to EPA on or before June 28, 2010.

ADDRESSES: Comments on the proposed decisions should be sent to Valentina Cabrera Stagno, Water Division (WTR-2), U.S. Environmental Protection Agency Region IX, 75 Hawthorne Street, San Francisco, CA 94105, telephone (415) 972-3434, facsimile (415) 947-3537, e-mail cabrera-stagno.valentina@epa.gov. Oral comments will not be considered. Copies of the proposed TMDLs will be available on EPA Region IX's Web site at http://www.epa.gov/region9/water/tmdl/progress.html or by writing or calling Valentina Cabrera Stagno. Underlying documentation comprising the record for these TMDLs is available for public inspection at the above address.

FOR FURTHER INFORMATION CONTACT: Valentina Cabrera Stagno at (415) 972-3434 or cabrera-stagno.valentina@epa.gov.

SUPPLEMENTARY INFORMATION: Section 303(d) of the Clean Water Act requires states to identify water bodies that do not meet water quality standards and then to establish TMDLs for each water body for each pollutant of concern. TMDLs identify the maximum amount of pollutants that can be discharged to water bodies without causing violations of water quality standards. Echo Park Lake, Lincoln Park Lake, Peck Road Park Lake, Lake Calabasas, Lake Sherwood, Puddingstone Reservoir, Legg Lakes, Santa Fe Dam Park and El Dorado Park Lakes are included on the State of California's Section 303(d) list of polluted waters due to water quality impacts associated with nutrients, mercury, chlordane, DDT, PCBs and trash. EPA will establish TMDLs for these lakes by March 2012 because of deadlines under a consent decree (Heal the Bay Inc., et al. v. Browner C 98-4825 SBA, entered March 24, 1999).

Dated: April 27, 2010.
Alexis Strauss,
Director, Water Division, EPA Region IX.

[FR Doc. 2010-11426 Filed 5-12-10; 8:45 am]

BILLING CODE 6560-50-P